DEPARTMENT OF COMMERCE

International Trade Administration

[A-560-836]

Mattresses From Indonesia: Initiation of Antidumping Duty Administrative Review; 2023-2024; Correction

AGENCY: Enforcement and Compliance, International Trade Administration, Department of Commerce.

ACTION: Notice; correction.

SUMMARY: The U.S. Department of Commerce (Commerce) published notice in the Federal Register of July 5, 2024, in which Commerce initiated antidumping and countervailing duty administrative reviews for various orders with May anniversary dates. This notice incorrectly stated that the 2023-2024 antidumping duty administrative review of mattresses from Indonesia would be deferred for one year.

FOR FURTHER INFORMATION CONTACT: Noah Wetzel, AD/CVD Operations, Office VIII, Enforcement and Compliance, International Trade Administration, U.S. Department of Commerce, 1401 Constitution Avenue NW, Washington, DC 20230; telephone: (202) 482-7466.

SUPPLEMENTARY INFORMATION:

Background

On July 5, 2024, Commerce published in the Federal Register the initiation of antidumping and countervailing duty administrative reviews for various orders with May anniversary dates.¹ In that notice, Commerce stated that it is deferring the initiation of the 2023-2024 antidumping duty administrative review of mattresses from Indonesia by one year pursuant to 19 CFR 351.213(c) based on a timely request included in the administrative review request received from the Indonesia company PT Zinus Global Indonesia (Zinus Indonesia).² However, we are reversing this decision and initiating this administrative review because the domestic interested parties ³ submitted a timely objection to Zinus Indonesia's deferral request pursuant to 19 CFR 351.213(c)(1)(ii).⁴

¹ See Initiation of Antidumping and Countervailing Duty Administrative Reviews, 89 FR 55567 (July 5, 2024).

² See Zinus Indonesia's Letter, “Zinus Review Request and Request to Defer Administrative Review,” dated May 31, 2024.

³ The domestic interested parties are: Brooklyn Bedding; Elite Comfort Solutions; FXI, Inc.; Kolcraft Enterprises, Inc.; Leggett & Platt, Incorporated; the International Brotherhood of Teamsters, and United Steel, Paper and Forestry, Rubber, Manufacturing, Energy, Allied Industrial and Service Workers International Union, and AFL-CIO (USW).

⁴ The deadline for a timely objection to the deferral request was extended. See Commerce's Letter, “Request for Extension of Time to Comment on Deferral Request,” dated July 9, 2024; see also Domestic Interested Parties' Letter, “Mattress Petitioners' Objection to Zinus' Request to Defer Administrative Review,” dated July 18, 2024.

Correction

In the Federal Register of July 5, 2024, in FR Doc 2024-14771, on pages 55578 and 55579, correct the heading titled “Deferral of Initiation of Administrative Review” by deleting it and correct and the placement of the text “INDONESIA: Mattresses, A-560-836” by placing it above in the section labeled “AD Proceedings” on page 55569, to indicate that this case will be initiated, not deferred. The corrected text for this antidumping duty order is attached to this notice.

Notification to Interested Parties

This notice is issued and published in accordance with section 751(a) of the Tariff Act of 1930, as amended, and 19 CFR 351.213.

Dated: July 26, 2024.
Ryan Majerus,
Deputy Assistant Secretary for Policy and Negotiations, performing the non-exclusive functions and duties of the Assistant Secretary for Enforcement and Compliance.

| Period to be reviewed
AD Proceedings
INDONESIA: Mattresses, A-560-836 | 5/1/23-4/30/24
Bali Natural Latex
CV. Aumireta Anggun
Duta Abadi Primantara, Pt
Ecos Jaya JL Pasir Awi
Mimpi
PT Celebes Putra Prima
PT Demak Putra Mandiri
PT Ecos Jaya Indonesia
PT Graha Anom Jaya
PT Graha Seribusatujaya
PT Kline Total Logistics Indonesia
PT Rubberfoam Indonesia
PT Solo Murni Epte
PT. Ateja Multi Industri
PT. Ateja Tritunggal
PT. Aurora World Cianjur
PT. Cahaya Buana Furindotama
PT. CJ Logistics Indonesia
PT. Dinamika Indonusa Prima
PT. Dunlopillo Indonesia
PT. Dynasti Indomegah
PT. Grantec Jaya Indonesia
PT. Massindo International
PT. Ocean Centra Furnindo
PT. Quantum Tosan Internasional
PT. Romance Bedding & Furniture
PT. Royal Abadi Sejahtera
PT. Transporindo Buana Kargotama
PT. Zinus Global Indonesia
Sonder Canada Inc
Super Poly Industry PT
Zinus, Inc

[FR Doc. 2024-16996 Filed 7-31-24; 8:45 am]

BILLING CODE 3510-DS-P